SMALL BUSINESS ADMINISTRATION

Military Reservist Economic Injury Disaster Loans Interest Rate for Second Quarter FY 2015

In accordance with the Code of Federal Regulations 13—Business Credit and Assistance § 123.512, the following interest rate is effective for Military Reservist Economic Injury Disaster Loans approved on or after January 20, 2015.

Military Reservist Loan Program—4.000%.

Dated: January 15, 2015.
James E. Rivera,
Associate Administrator for Disaster Assistance.

[FR Doc. 2015-01192 Filed 1-22-15; 8:45 am]

BILLING CODE 8025-01-P